DEPARTMENT OF THE INTERIOR

Bureau of Reclamation

Klamath Project, Oregon

AGENCY: Bureau of Reclamation, Interior.

ACTION: Notice of Order Establishing Prohibitions in Areas of Bureau of Reclamation Lands and Projects.

SUMMARY: Pursuant to 43 CFR part 423, Public Conduct on Bureau of Reclamation Lands and Projects, the Bureau of Reclamation has established a Closure Order for certain lands and waters of the Klamath Project in the State of Oregon. The Order prohibits trespassing, entering, or remaining in or upon the closure areas as described; tampering or attempting to tamper with the facilities, structures or other property located within the closure areas; or moving, manipulating, or setting in motion any parts thereof; vandalism or destroying, injuring, defacing, or damaging property or real property that is not under one's lawful control or possession.

In accordance with 43 CFR part 423, Public Conduct on Bureau of Reclamation Lands, Reclamation is publishing the Closure Order in the Federal Register.

DATES: April 25, 2002 until October 15, 2002.

ADDRESSES: Klamath Basin Area Office, 6600 Washburn Way, Klamath Falls, Oregon 97603.

FOR FURTHER INFORMATION CONTACT: Dave Sabo, Area Manager, (541) 883-6935.

SUPPLEMENTARY INFORMATION: By virtue of the authority vested in me under the regulations of the Secretary of the Interior, 43 CFR part 423, public access to the following facilities, lands, or waters is closed until October 15, 2002:

A Canal Headgate Area—The closure area includes all lands, waters and facilities within 100 feet of either side of the centerline of the A Canal which lies between the Highway 97 onramp and the canal's confluence with Upper Klamath Lake. This closure area includes the entire A Canal headgate facility and related structures, walkways, gate operating mechanisms and all lands surrounding such structures within the described area.

Link River Dam—The closure area includes the entire dam structure and surrounding lands and water 100 feet downstream and 50 feet upstream of the dam and 50 feet from the right and left abutments.

Station 48 Drop—The closure area includes the land, water and facilities within and including the existing fence surrounding the headgate structure.

Klamath Basin Area Office Headquarters Area—The closure area includes the land and facilities immediately adjacent to and south of the KBAO office building and lying within and including the existing chain link fence which is bounded on the north by Joe Wright Road and on the east by Washburn Way and excludes the formal offices of the Fish and Wildlife Service and the Bureau of Reclamation.

The following acts are prohibited on the facilities, lands and waters in the closure area:

1. Trespassing, entering, or remaining in or upon the closure areas described above. Exceptions: Operations and Maintenance personnel that have express authorization from Reclamation, law enforcement officers and Reclamation employees acting within the scope of their employment, and any others who have received express written authorization from Reclamation to enter the closure areas.

2. Tampering or attempting to tamper with the facilities, structures or other property located within the closure areas or moving, manipulating, or setting in motion any of the parts thereof. Exceptions: see 1 above.

3. Vandalism or destroying, injuring, defacing, or damaging property within the closure areas or real property that is not under one's lawful control or possession. This order is posted in accordance with 43 CFR part 423.3(b).

Dated: May 7, 2002.
Dave Sabo,
Area Manager, Klamath Basin Area Office.

[FR Doc. 02-13630 Filed 5-30-02; 8:45 am]

BILLING CODE 4310-MN-P